DEPARTMENT OF JUSTICE

Notice of Lodging of a Bankruptcy Settlement Agreement Pursuant to the Comprehensive Environmental Response, Compensation, and Liability Act

Notice is hereby given that a proposed Bankruptcy Settlement Agreement between the debtors and the Environmental Protection Agency (hereinafter “Bankruptcy Settlement Agreement”) in In re M.D. Moody & Sons, Inc., et al., Chap. 11, Jointly Administered under Case No. 3:09-bk-6247, was lodged on or about November 30, 2011 (Docket No. 974), with the United States Bankruptcy Court for the Middle District of Florida, Jacksonville Division. The proposed Bankruptcy Settlement Agreement would resolve the United States' claims under Section 107 of the Comprehensive Environmental Response, Compensation, and Liability Act (“CERCLA”) of 1980, 42 U.S.C. 9607, as amended, against the debtors related to unpaid response costs incurred by the Environmental Protection Agency in connection with the release of hazardous substances at the BCX Superfund Site (“Site”) in Jacksonville, Florida. EPA alleged that the debtors are liable as persons who, by contract, agreement, or otherwise, arranged for the disposal of hazardous substances at the Site. Under the proposed Bankruptcy Settlement Agreement, the debtors will pay the sum of $5,629.05 in full in cash within 30 days of Bankruptcy Court approval of the Bankruptcy Settlement Agreement. Pursuant to the Bankruptcy Settlement Agreement, the Debtors will receive a covenant not to sue from the United States on behalf of EPA for the Site and will receive protection from contribution actions or claims as provided by Section 113(f)(2) of CERCLA, 42 U.S.C. 9613(f)(2) for the matters addressed in the Bankruptcy Settlement Agreement.

The Department of Justice will receive, for a period of thirty (30) days from the date of this publication, comments relating to the proposed Bankruptcy Settlement Agreement. Comments should be addressed to the Assistant Attorney General for the Environment and Natural Resources Division, Department of Justice, and either emailed to pubcomment-ees.enrd@usdoj.gov or mailed to P.O. Box 7611, U.S. Department of Justice, Washington, DC 20044-7611 P.O. Box 7611, Washington, DC 20530, and should refer to In re M.D. Moody & Sons, Inc., et al., Chap. 11, Jointly Administered under Case No. 3:09-bk-6247 (USBC M.D. Fla.), DOJ Ref. #90-11-3-09152/2.

The Bankruptcy Settlement Agreement may be examined at U.S. EPA Region 4, 61 Forsyth Street, Atlanta, GA 30303 (contact Stacey Haire, Esq. (404) 562-9676). During the public comment period, the Bankruptcy Settlement Agreement may also be examined on the following Department of Justice Web site, http://www.usdoj.gov/enrd/Consent_Decrees.html. A copy of the Bankruptcy Settlement Agreement may also be obtained by mail from the Consent Decree Library, U.S. Department of Justice, P.O. Box 7611, Washington, DC 20044-7611 or by faxing or emailing a request to Tonia Fleetwood (tonia.fleetwood@usdoj.gov), fax No. (202) 514-0097, phone confirmation number (202) 514-1547. In requesting a copy from the Consent Decree Library, please refer to In re M.D. Moody & Sons, Inc., et al., Chap. 11, Jointly Administered under Case No. 3:09-bk-6247 (USBC M.D. Fla.), DOJ Ref. #90-11-3-09152/2, and enclose a check in the amount of $17.50 (25 cents per page reproduction cost) payable to the U.S. Treasury or, if by email or fax, forward a check in that amount to the Consent Decree Library at the stated address.

Henry Friedman,
Assistant Section Chief, Environmental Enforcement Section, Environment and Natural Resources Division.

[FR Doc. 2011-31364 Filed 12-6-11; 8:45 am]

BILLING CODE 4410-15-P